DEPARTMENT OF THE INTERIOR

Bureau of Indian Affairs

25 CFR CHAPTER VI

No Child Left Behind School Facilities and Construction Negotiated Rulemaking Committee Meeting

AGENCY: Bureau of Indian Affairs, Interior.

ACTION: Notice.

SUMMARY: In accordance with the Federal Advisory Committee Act, the Bureau of Indian Affairs is announcing that the No Child Left Behind School Facilities and Construction Negotiated Rulemaking Committee will hold its second meeting in Seattle, Washington. The purpose of the meeting is to continue negotiations to prepare a report or reports regarding Bureau-funded school facilities as required under the No Child Left Behind Act of 2001.

DATES: The Committee's second meeting will begin at 8:30 a.m. on April 12, 2010, and end at 12 p.m. on April 15, 2010.

ADDRESSES: The meeting will be held at the Hilton Seattle Airport and Conference Center, 17620 International Blvd., Seattle, Washington 98188-4001.

FOR FURTHER INFORMATION CONTACT: The Designated Federal Official, Michele F. Singer, Director, Office of Regulatory Affairs and Collaborative Action, Office of the Assistant Secretary—Indian Affairs, 1001 Indian School Road, NW., Suite 312, Albuquerque, NM 87104; telephone (505) 563-3805; fax (505) 563-3811.

SUPPLEMENTARY INFORMATION: The No Child Left Behind School Facilities and Construction Negotiated Rulemaking Committee was established to prepare and submit a report or reports to the Secretary of the Interior setting out: a method for creating a catalog of school facilities; a list of school replacement and new construction needs of the interested parties and a formula for equitable distribution of funds to address those needs; a list of major and minor renovation needs of the interested parties and a formula for equitable distribution of funds to address those needs; and facilities standards for home-living (dormitory) situations.

The following items will be on the agenda:

• Review of Committee Operating Procedures, discussion, and approval;

• Review of Committee criteria for decision-making developed in the visioning exercise in January 2010;

• Overview, review, and discussion of key formulas from the FMIS March 2010 Training;

• Small group and subcommittee work: Dormitory Standards, Catalogue/Inventory, and Formula for Repair and Renovation;

• Report back from subcommittee work and discussion;

• Discussion of programmatic requirements and facility issues;

• Discussion of report outline;

• Discussion of formula and approach to new school construction;

• Refinement of options for catalogue and tentative consensus;

• Finalization of subcommittees, logistics, next steps, and other details;

• Assessment of the second meeting; and

• Public comments.

Written comments may be sent to the Designated Federal Official listed in the FOR FURTHER INFORMATION CONTACT section above. All meetings are open to the public; however, transportation, lodging, and meals are the responsibility of the participating public.

Dated: March 22, 2010.
Larry Echo Hawk,
Assistant Secretary—Indian Affairs.

[FR Doc. 2010-7061 Filed 3-26-10; 8:45 am]

BILLING CODE 4310-W7-P